GENERAL SERVICES ADMINISTRATION

Privacy Act of 1974; Notice of Updated Systems of Records; Correction

AGENCY: General Services Administration.

ACTION: Correction.

SUMMARY: GSA is issuing a correction to the notice GSA/GOVT-4 Contracted Travel Services Program. The document contained an incorrect acronym. GSA reviewed its Privacy Act systems to ensure that they are relevant, necessary, accurate, up-to-date, covered by the appropriate legal or regulatory authority, and compliant with OMB M-07-16.

DATES: Effective June 12, 2009.

FOR FURTHER INFORMATION CONTACT: Call or e-mail the GSA Privacy Act Officer: telephone 202-208-1317; e-mail gsa.privacyact@gsa.gov.

ADDRESSES: GSA Privacy Act Officer (CIB), General Services Administration, 1800 F Street NW., Washington, DC 20405.

Correction:

In the Federal Register Notice of June 3, 2009, in FR Doc. E9-12951, on page 26700, in the third column, under the heading “CATEGORIES OF RECORDS IN THE SYSTEM” remove “DHA” and add “DHS” in its place.

Dated: June 8, 2009.
Kim Mott,
Privacy Act Officer.

[FR Doc. E9-13830 Filed 6-11-09; 8:45 am]

BILLING CODE 6820-34-P